DEPARTMENT OF TRANSPORTATION

Surface Transportation Board

[STB Finance Docket No. 34470]

Norfolk Southern Railway Company—Trackage Rights Exemption—Western New York & Pennsylvania Railroad, LLC

Pursuant to a trackage rights agreement dated February 10, 2004, between Norfolk Southern Railway Company (NSR) and Western New York & Pennsylvania Railroad, LLC (WNYP), WNYP has agreed to grant NSR overhead trackage rights over a line of railroad between Hornell, NY, and Meadville, PA, mileposts OS332.0-OS394.9, OS395.2-OS414.0, SA1.4-SA47.0, CE0.0-CE13.2, and SA56.3-SA102.3, with ingress and egress rights at Hornell, NY, Olean, NY, Corry, PA, and Meadville, PA, a distance of approximately 186.5 miles.¹

¹ A redacted version of the trackage rights agreement between NSR and WNYP was filed with the notice of exemption. The full version of the agreement, as required by 49 CFR 1180.6(a)(7)(ii), was concurrently filed under seal along with a motion for protective order. A protective order is being served on March 3, 2004.

The transaction was scheduled to be consummated on or after the February 25, 2004, effective date of the exemption.

The purpose of the trackage rights is to allow NSR to efficiently route traffic between Meadeville, PA, and Hornell, NY, for further transportation beyond those points and, thereby, reducing the current route through the congested Buffalo, NY terminal area.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34470, must be filed with the Surface Transportation Board, 1925 K Street, NW., Washington, DC 20423-0001. In addition, a copy of each pleading must be served on John V. Edwards, Norfolk Southern Corporation, Three Commercial Place, Norfolk, VA, 23510.

Board decisions and notices are available on our Web site at www.stb.dot.gov.

Decided: March 3, 2004.
By the Board, David M. Konschnik, Director, Office of Proceedings.
Vernon A. Williams,
Secretary.

[FR Doc. 04-5257 Filed 3-8-04; 8:45 am]

BILLING CODE 4915 -01-P